DEPARTMENT OF JUSTICE

Notice of Lodging of Proposed Consent Decree Under the Clean Water Act

On August 20, 2018, the Department of Justice lodged a proposed Consent Decree with the United States District Court for the Northern District of Iowa in the lawsuit entitled United States v. AG Processing Inc., Civil Action No. 3:18-cv-03052-LRR.

The United States filed this lawsuit under Section 311(j) of the Clean Water Act, 33 U.S.C. 1321(j). The United States' complaint seeks injunctive relief and civil penalties for violations of the Spill Prevention, Control, and Countermeasure regulations and the Facility Response Plan regulations at defendant's facilities in Iowa, Nebraska, and Minnesota. The consent decree requires the defendant to perform injunctive relief and pay a $500,000 civil penalty.

The publication of this notice opens a period for public comment on the Consent Decree. Comments should be addressed to the Assistant Attorney General, Environment and Natural Resources Division, and should refer to United States v. AG Processing Inc., D.J. Ref. No. 90-5-1-1-11716. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, US DOJ—ENRD, P.O. Box 7611, Washington, DC 20044-7611.

Please enclose a check or money order for $12.75 (25 cents per page reproduction cost) payable to the United States Treasury.

Susan M. Akers,
Assistant Section Chief, Environmental Enforcement Section, Environment and Natural Resources Division.

[FR Doc. 2018-18651 Filed 8-28-18; 8:45 am]

BILLING CODE 4410-15-P